FEDERAL COMMUNICATIONS COMMISSION

47 CFR Part 73

[DA 05-553]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective March 16, 2005.

FOR FURTHER INFORMATION CONTACT: Rolanda F. Smith, Media Bureau, (202) 418-2180.

SUPPLEMENTARY INFORMATION: This is a summary of the Commission's Report and Order, adopted March 2, 2005, and released March 4, 2005. The full text of this Commission decision is available for inspection and copying during regular business hours at the FCC Reference Information Center, Portals II, 445 12th Street, SW., Room CY-A257, Washington, DC, 20554. The complete text of this decision may also be purchased from the Commission's duplicating contractor, Best Copy and Printing, Inc., 445 12th Street, SW., Room CY-B402, Washington, DC, 20054, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

Part 73 of Title 47 of the Code of Federal Regulations is amended as follows:

PART 73—RADIO BROADCASTING SERVICES

1. The authority citation for Part 73 continues to read as follows:

Authority: 47 U.S.C. 154, 303, 334, and 336.

§ 73.202 [Amended]

2. Section 73.202(b), the Table of FM Allotments under Alabama, is amended by removing Channel 237A and adding Channel 237C2 at Coaling.

3. Section 73.202(b), the Table of FM Allotments under Arizona, is amended by removing Channel 291A and adding Channel 291C1 at Munds Park.

4. Section 73.202(b), the Table of FM Allotments under Arkansas, is amended by removing Channel 246A and adding Channel 246C3 at Calico Rock.

5. Section 73.202(b), the Table of FM Allotments under California, is amended by removing Channel 300A and adding Channel 300C1 at Mount Shasta and by removing Channel 286B1 and adding Channel 286A at Pacific Grove.

6. Section 73.202(b), the Table of FM Allotments under Florida, is amended by removing Channel 236A and adding Channel 236C3 at Ebro.

7. Section 73.202(b), the Table of FM Allotments under Georgia, is amended by removing Channel 282C and adding Channel 282C0 at Augusta.

8. Section 73.202(b), the Table of FM Allotments under Kansas, is amended by removing Channel 280A and adding Channel 280C3 at Fort Scott and by removing Channel 246C3 and adding Channel 246C2 at Hutchinson.

9. Section 73.202(b), the Table of FM Allotments under Mississippi, is amended by removing Channel 237A and adding Channel 239A at Amory.

10. Section 73.202(b), the Table of FM Allotments under Utah, is amended by removing Channel 264C2 and adding Channel 263C at Monroe.

Federal Communications Commission.
John A. Karousos,
Assistant Chief, Audio Division, Media Bureau.

[FR Doc. 05-5170 Filed 3-15-05; 8:45 am]

BILLING CODE 6712-01-P